DEPARTMENT OF THE INTERIOR

National Park Service

[NPS-MWR-IATR-13283; PPMWMWROW2/PPMPSAS1Y.YP0000]

Notice of Availability of the Record of Decision for the General Management Plan/Environmental Impact Statement for the Ice Age National Scenic Trail Interpretive Site, Wisconsin

AGENCY: National Park Service, Interior.

ACTION: Notice of availability.

SUMMARY: The National Park Service (NPS) announces the availability of the Record of Decision (ROD) for the General Management Plan/Environmental Impact Statement (GMP/EIS) for the Ice Age National Scenic Trail (Trail) Interpretive Site, Wisconsin.

ADDRESSES: Copies may be picked up in person or by mailing a request in writing to the Ice Age National Scenic Trail Headquarters Office, 700 Rayovac Drive, Suite 100, Madison, WI 53711, by telephone at (608) 441-5610, or by email at: IATR_Superintendent@nps.gov. Copies of the ROD are available at the NPS Planning, Environment, and Public Comment Web site http://www.parkplanning.nps.gov/iatr or at the Trail Web site http://www.nps.gov/iatr.

FOR FURTHER INFORMATION CONTACT: Superintendent John Madden, at the address above or by telephone at (608) 441-5610.

SUPPLEMENTARY INFORMATION: We, the NPS, have issued a ROD for the GMP/EIS for the Trail Interpretive Site near Cross Plains, Wisconsin. As soon as practicable, the NPS will begin to implement the selected alternative.

We have selected Alternative 5 as described in the Final GMP/EIS. The selected alternative (which was the preferred alternative) will provide visitors with interpretation of the evolution of the complex from the last glacial retreat and opportunities to enjoy appropriate low-impact outdoor recreation. Ecological resources will largely be managed to reveal the glacial landscape. The most sensitive ecological areas will be carefully protected, and visitor access will be highly controlled in these areas. Visitors will experience a wide variety of indoor and outdoor interpretive programming. Under this alternative, the Ice Age Complex will serve as the headquarters for the Trail.

Other alternatives considered included Alternative 1, no action, which described a continuation of existing management at the Trail and provides a baseline for evaluating the changes and impacts of the other alternatives. In Alternative 1, the Ice Age Complex would have remained undeveloped for visitor use and minimally maintained. The segment of the Trail would still have been built (by the Ice Age Trail Alliance) within the identified corridor under this alternative, but other trails would not have been constructed.

Alternative 2 emphasized ecosystem management and restoration. Vegetation would have been restored to conditions prior to the settlement of Europeans and managed to reveal glacial landscapes. Visitors would have experienced a sense of remoteness through hikes and trails.

Alternative 3 emphasized interpretation and education on how the Ice Age Complex evolved over time since the retreat of the last glacier. Throughout most of the complex, ecological resources would have been managed to reveal the glacial landscape. Visitors would have had an opportunity to experience a wide variety of resources, both ecological and geological, as well as remnants of human use of the site. The visitor experience would have involved sheltered and indoor settings at the core of the property and hiking throughout most other areas of the site. The Ice Age Complex would have served as the headquarters for the Trail.

Alternative 4 emphasized low impact outdoor recreation experiences in support of, and compatible with, preserving and interpreting the glacial significance of the complex and restoring and managing the ecosystem. Visitors would have experienced resources in diverse ways, participating in interpretive programming in indoor and outdoor settings. The Ice Age Complex would have served as the headquarters for the Trail under this alternative.

Dated: July 19, 2013.
Patricia S. Trap,
Deputy Regional Director, Midwest Region.

[FR Doc. 2013-18513 Filed 7-31-13; 8:45 am]

BILLING CODE 4310-MA-P